DEPARTMENT OF AGRICULTURE

Foreign Agricultural Service

Notice of Request for Extension of a Currently Approved Information Collection

AGENCY: Foreign Agricultural Service, USDA.

ACTION: Notice and request for comments.

SUMMARY: In accordance with the Paperwork Reduction Act of 1995, this notice announces the Foreign Agricultural Service's (FAS) intention to request an extension for a currently approved information collection. This information collection is required in petitions filed with the Foreign Agricultural Service for emergency relief from duty-free imports of perishable products under section 204(d) of the Andean Trade Promotion and Drug Eradication Act.

DATES: Comments on this notice must be received on or before October 24, 2005, to be assured consideration.

ADDRESSES: Mail or deliver comments to Omar Karawa, Import Policies and Programs Division, Foreign Agricultural Service, Stop 1021, 1400 Independence Ave., SW., Washington, DC 20250-1021, or e-mail to Omar.Karawa@fas.usda.gov, or fax to (202) 720-0876.

FOR FURTHER INFORMATION CONTACT: Omar Karawa, Stop 1021, 1400 Independence Avenue, SW., Washington, DC 20250-1021, (202) 720-1336.

SUPPLEMENTARY INFORMATION: Title: Emergency Relief from Duty-Free Imports of Perishable Products from Andean Countries.

OMB Number: 0551-0033.

Expiration Date of Approval: December 31, 2005.

Expiration Date of Approval: December 31, 2005.

Type of Request: Extension for a currently approved information collection.

Abstract: The Andean Trade Preference Act (the “Act”) (19 U.S.C. 3201 et seq.) was retitled the “Andean Trade Promotion and Drug Eradication Act” under section 3101 of H.R. 3009, the “Trade Act of 2002”. The Act authorized the President to proclaim duty-free treatment for imports from Bolivia, Colombia, Ecuador and Peru, except for specifically excluded products. Section 3104 of H.R. 3009 amended the Act to extend the expiration date from December 4, 2001 to December 31, 2006, and made the Act retroactive to December 4, 2001. Section 3103(a) of H.R. 3009 renumbered section 204(e) of the Act as section 204(d). Section 204(d) provides for emergency relief from duty-free imports of certain perishable agricultural products from the beneficiary Andean countries. Section 204(d) provides, in part, that a petition for emergency import relief may be filed with the Secretary of Agriculture at the same time a petition for import relief is filed with the United States International Trade Commission (ITC) pursuant to the provisions of section 201 of the Trade Act of 1974, as amended (19 U.S.C. 2251). Emergency import relief is limited to restoration of MFN tariffs during the period of the ITC's investigation. Under 7 CFR 1540 Subpart C, a procedure is provided for an entity to submit a petition for emergency relief to the Administrator of the Foreign Agricultural Service. Section 150.43 requests that the following information, to the extent possible, be included in a petition: A description of the imported perishable product concerned; country of origin of imports; data indicating increased imports are a substantial cause of serious injury (or threat of injury) to the domestic industry producing a like or directly competitive product; evidence of serious injury, and a statement indicating why emergency action would be warranted. The information collected provides essential data for the Secretary regarding specific market conditions with respect to the industry requesting emergency relief. Within 14 days of the filing of a petition, the Secretary shall advise the President if there is reason to believe that emergency action is warranted, or to publish a notice of a determination not to recommend emergency action and advise the petitioner.

Estimate of Burden: Public reporting burden for this collection of information is estimated at $553.00.

Respondents:Non-profit institutions, businesses, or farms.

Estimated Number of Respondents: 1.

Estimated Number of Responses per Respondent: 1.

Estimated Total Annual Burden on Respondents: 23 hours. Copies of the information collection can be obtained from Liliana Silva-Castellanos, the Agency Collection Coordinator, at (202) 690-4055.

Requests for Comments: The public is invited to submit comments and suggestions to the above address regarding the accuracy of the burden estimate, ways to minimize the burden, including the use of automated collection techniques or other forms of information technology, or any other aspect of this collection of information. Comments on issues covered by the Paperwork Reduction Act are most useful to OMB if received within 30 days or the publication of the Notice and Request for Comments, but must be submitted no later than 60 days from the date of publication to be assured consideration. All responses to this notice will be summarized and included in the request for OMB approval. All comments will also be a matter of public record.

Signed at Washington, DC, on August 5, 2005.
A. Ellen Terpstra,
Administrator, Foreign Agricultural Service.

[FR Doc. 05-16766 Filed 8-23-05; 8:45 am]

BILLING CODE 3410-10-M